DEPARTMENT OF COMMERCE

National Telecommunications and Information Administration

Virginia Broadband Summit

AGENCY: National Telecommunications and Information Administration, U.S. Department of Commerce.

ACTION: Notice of open meeting.

SUMMARY: The National Telecommunications and Information Administration's (NTIA) BroadbandUSA Program, in partnership with the Center for Innovative Technology (CIT), will host the Virginia Broadband Summit in Roanoke, Virginia on October 30, 2018. The purpose of the Summit is to engage the public and stakeholders with information to accelerate broadband connectivity, improve digital inclusion, and support local priorities. The Summit will provide information on topics including local broadband planning, funding and engagement with service providers. Speakers and attendees from Virginia, federal agencies and across the country will come together to explore ways to facilitate the expansion of broadband capacity, access, and utilization.

DATES: The Broadband Summit will be held on October 30, 2018, from 8:30 a.m. to 4:00 p.m., Eastern Time.

ADDRESSES: The Virginia Broadband Summit will be held in Roanoke, Virginia at the Roanoke South County Library, 6303 Merriman Road, Roanoke, VA 24018.

FOR FURTHER INFORMATION CONTACT: Janice Wilkins, National Telecommunications and Information Administration, U.S. Department of Commerce, Room 4678, 1401 Constitution Avenue NW, Washington, DC 20230; telephone: (202) 482-5791; email: broadbandusaevents@ntia.doc.gov. Please direct media inquiries to NTIA's Office of Public Affairs, (202) 482-7002; email: press@ntia.doc.gov.

SUPPLEMENTARY INFORMATION: The NTIA's BroadbandUSA program promotes innovation and economic growth by supporting efforts to expand broadband access and meaningful use across America. The CIT provides broadband support to Virginia localities, elected officials, state and federal agencies, and broadband providers to accelerate Virginia's economic growth through the application and use of broadband telecommunications.

The Virginia Broadband Summit is open to the public. Pre-registration is requested because space may be limited. NTIA asks registrants to provide their first and last names and email address for registration purposes and to receive any updates on the workshop and other BroadbandUSA news and events. Registration information, meeting updates, including changes in the agenda, and relevant documents will be available on NTIA's website at https://broadbandusa.ntia.doc.gov/VirginiaBroadbandSummit2018.

The public meeting is physically accessible to people with disabilities. Individuals requiring accommodations, such as language interpretation or other ancillary aids, should notify Janice Wilkins at the contact information listed above at least five (5) business days before the meeting so that accommodations can be made.

Dated: July 24, 2018.
Kathy D. Smith,
Chief Counsel, National Telecommunications and Information Administration.

[FR Doc. 2018-16157 Filed 7-27-18; 8:45 am]

BILLING CODE 3510-60-P